DEPARTMENT OF INTERIOR

Bureau of Land Management

[LLCO956000 L14200000.BJ0000]

Notice of Filing of Plats

AGENCY: Bureau of Land Management, Interior.

ACTION: Notice of Filing of Plats; Colorado.

SUMMARY: The Bureau of Land Management (BLM) Colorado State Office is publishing this notice to inform the public of the filing of the land survey plats listed below.

DATES: The plats described in this notice were filed on May 25, 2012.

ADDRESSES: BLM Colorado State Office, Cadastral Survey, 2850 Youngfield Street, Lakewood, Colorado 80215-7093.

FOR FURTHER INFORMATION CONTACT: Randy Bloom, Chief Cadastral Surveyor for Colorado, (303) 239-3856.

SUPPLEMENTARY INFORMATION: The plat, in 3 sheets, and field notes of the dependent survey and resurvey in Fractional Township 10 South, Range 103 West, Sixth Principal Meridian, Colorado, were accepted and filed on May 25, 2012.

Randy Bloom,
Chief Cadastral Surveyor for Colorado.

[FR Doc. 2012-14792 Filed 6-15-12; 8:45 am]

BILLING CODE 4310-JB-P